FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, 500 C Street, SW., Washington, DC 20472, (202) 646-3461 or (e-mail) matt.miller@fema.gov.

SUPPLEMENTARY INFORMATION: FEMA makes final determinations listed below of BFEs and modified BFEs for each community listed. The proposed BFEs and proposed modified BFEse were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) modified | Communities affected
Greenbrier Creek:
Approximately 200 feet downstream of the confluence of Little Greenbrier Creek | *288 | FEMA Docket No. 7607, Town of Wooster, Faulkner County.
Approximately 7,100 feet upstream of the Town of Wooster corporate limits | *295
Greenbrier Creek Tributary No. 2:
At the mouth of Greenbrier Creek, Tributary No. 2 | *288 | Town of Wooster, Faulkner County.
Approximately 1,350 feet upstream, of Green Valley Road | *319
Greenbrier Creek Tributary No. 3:
At the mouth of Greenbrier Creek Tributary No. 3 | *288 | FEMA Docket No. 7607, Town of Wooster.
Approximately 50 feet upstream of a private drive about 1,600 feet upstream of Reed Road | *325
Skyline Creek:
At the mouth of Skyline Creek | *292 | Town of Wooster, Faulkner County.
Approximately 725 feet upstream of Green Valley Road | *312
Maps are available for inspection at the City Hall, Town of Wooster, 7 Reed Road, Wooster, Arkansas.
Maps are available for inspection at the Faulkner County Community Map Repository, 801 Locust Street, Conway, Arkansas.
Peruque Creek:
Approximately 260 feet upstream of State Highway 79 | *452 | FEMA Docket No. 7607, St. Charles County, City of O'Fallon, City of St. Paul, City of Lake St. Louis. | Just downstream of Church Street | *533
*National Geodetic Vertical Datum
Maps are available for inspection at the St. Charles County Administration Building, 201 North Second Street, Room 420, St. Charles, Missouri.
Maps are available for inspection at City Hall, City of O'Fallon, 138 South Main Street, O'Fallon, Missouri.
Maps are available for inspection at City Hall, City of St. Paul, St. Paul, Missouri.
Maps are available for inspection at City Hall, City of Lake St. Louis, 1000 Lake St. Louis Boulevard, Lake St. Louis, Missouri.
Cottonwood Creek:
Just upstream of SE 14th Street | *467 | FEMA Docket No. 7607, City of Dallas, City of Grand Prairie.
Approximately 700 feet upstream of Great Southwest Parkway | *531
Duck Creek:
Approximately 600 feet downstream of Collins Road | *458 | FEMA Docket No. 7607, City of Dallas, City of Garland, City of Mesquite, Town of Sunnyvale, Dallas County.
Just downstream of Belt-line Road | *592
South Fork Cottonwood Creek:
Approximately 150 feet downstream of Carrier Parkway | *486 | City of Garland.
Just downstream of Great Southeast Parkway | *547
Stream 2C2:
At the mouth of Stream 2C2 | *494 | City of Grand Prairie.
Approximately 630 feet upstream of Glenbrook Drive | *495
Stream 8D1:
At the mouth of Stream 8D1 | *467 | City of Dallas, City of Grand Prairie.
Approximately 50 feet downstream of Belt Line Road | *489
Stream 8D3:
Approximately 300 feet downstream of Southeast 4th Street | *474 | City of Grand Prairie.
Approximately 75 feet downstream of South Center Street | *488
Stream 8D6:
At the mouth of Stream 8D6 | *505 | FEMA Docket No. 7607, City of Grand Prairie.
Approximately 2,350 feet upstream of Arkansas Lane | *544
Stream 8D7:
Approximately 2,000 feet downstream of Sherman Street | *496 | City of Grand Prairie. | Approximately 50 feet downstream of Sherman Street | *512
Maps are available for inspection at the Dallas County Administration Building, 411 Elm Street, 4th Floor, Dallas, Texas.
Maps are available for inspection at the City of Dallas, 320 East Jefferson Boulevard, Dallas, Texas.
Maps are available for inspection at the City of Garland, 200 North 5th Street, Garland, Texas.
Maps are available for inspection at the City of Grand Prairie, City Development Center, 206 West Church Street, Grand Prairie, Texas.
Maps are available for inspection at the City of Mesquite, 320 East Jefferson Boulevard, Dallas, Texas.
Maps are available for inspection at the Town of Sunnyvale, 537 Long Creek Road, Sunnyvale, Texas.

(Catalog of Federal Domestic Assistance No. 83.100, “Flood Insurance.”)
Dated: August 9, 2002.
Anthony S. Lowe,
Administrator, Federal Insurance and Mitigation Administration.

[FR Doc. 02-20966 Filed 8-16-02; 8:45 am]

BILLING CODE 6718-04-P